DEPARTMENT OF ENERGY

Federal Energy Regulatory Commission

[Docket No. EL11-44-000]

Iberdrola Renewables, Inc., PacifiCorp, NextEra Energy Resources, LLC, Invenergy Wind North America LLC, Horizon Wind Energy LLC v. Bonneville Power Administration; Notice of Designation of Certain Commission Personnel as Non-Decisional

Commission staff members Steve Rodgers and Saeed Farrokhpay, both of the Office of Energy Market Regulation, are assigned to assist in developing tariff provisions that are responsive to the Commission's December 7, 2011 order issued in the above-referenced docket and/or a settlement agreement in this proceeding.

As “non-decisional” staff, Messrs. Rodgers and Farrokhpay will not participate in an advisory capacity in the Commission's review of any future filings in the above-referenced docket, including offers of settlement or settlement agreements.

Different Commission “advisory staff” will be assigned to review and process subsequent filings that are made in the above-referenced docket, including any offer of settlement or settlement agreement. Non-decisional staff and advisory staff are prohibited from subsequent communications with one another concerning matters in the above-referenced docket.

Dated: January 6, 2012.
Nathaniel J. Davis, Sr.,
Deputy Secretary.

[FR Doc. 2012-642 Filed 1-13-12; 8:45 am]

BILLING CODE 6717-01-P